DEPARTMENT OF AGRICULTURE

Office of the Secretary

7 CFR Part 781

RIN 0560-AI70

Agricultural Foreign Investment Disclosure Act: Revisions to Reporting Requirements; Correction

AGENCY: Office of the Secretary, U.S. Department of Agriculture.

ACTION: Advanced notice of proposed rulemaking; correction.

SUMMARY: This document corrects the Docket ID number that appeared in an advanced notice of proposed rulemaking published in the Federal Register on December 29, 2025, that is seeking public comment for the Agricultural Foreign Investment Disclosure Act: Revisions to Reporting Requirements. USDA is requesting a correction to the Docket ID Number FSA-2024-0005. Docket ID should be read as USDA-2026-0001.

SUPPLEMENTARY INFORMATION:

Correction

In proposed rule FR Doc. 2025-23830, beginning on page 60581 in the issue of December 29, 2025, make the following correction: On page 60581, in the first column, the Docket Number is corrected to read “USDA-2026-001”; on page 60581, in the second column Docket ID is corrected to read “USDA-2026-001”.

Done at Washington, DC.
Natalie Popovic,
Senior Program Analyst, Office of the General Counsel.

[FR Doc. 2026-00536 Filed 1-13-26; 8:45 am]

BILLING CODE 3411-E2-P